DEPARTMENT OF ENERGY

Federal Energy Regulatory Commission

[Docket No. RP01-87-002]

Tennessee Gas Pipeline Company; Notice of Compliance Filing

April 17, 2001.

Take notice that on April 11, 2001, Tennessee Gas Pipeline Company (Tennessee), tendered for filing as part of its FERC Gas Tariff, Fifth Revised Volume No. 1, Substitute Third Revised Sheet No. 95B, with an effective date of April 1, 2001.

Tennessee states that the revised tariff sheet is being filed in compliance with the Commission's Letter Order issued in the above referenced docket on March 28, 2001 (Letter Order). Tennessee Gas Pipeline Company, 94 FERC ¶61,354 (2001). Tennessee further states that the revised tariff sheet contains certain clarifications to its tariff provisions that allow Rate Schedule FS to permit shippers to make proportionate releases of storage and transportation capacity and still retain the right to excess deliverability.

Any person desiring to protest said filing should file a protest with the Federal Energy Regulatory Commission, 888 First Street, N.E., Washington, DC. 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-9893 Filed 4-20-01; 8:45 am]

BILLING CODE 6717-01-M